DEPARTMENT OF AGRICULTURE

Food and Nutrition Service

Request for Information: Research on the Causes, Characteristics, and Consequences of Childhood Hunger and Food Insecurity

AGENCY: Food and Nutrition Service, USDA.

ACTION: Notice.

SUMMARY: Section 141 of the Healthy, Hunger-Free Kids Act of 2010 provides $10 million to the U.S. Department of Agriculture for research on the causes, characteristics and consequences of childhood hunger and food insecurity. This notice announces a request for public comments to assist the Food and Nutrition Service in determining how best to focus these funds on areas and methods with the greatest research potential to maximize the return on this investment.

DATES: To be assured of consideration, written comments must be submitted on or before October 11, 2012.

ADDRESSES: Comments may be submitted through the Federal eRulemaking Portal at www.regulations.gov. Follow the online instructions for submitting comments electronically. Comments not submitted electronically can be mailed or delivered to: Office of Research and Analysis, Food and Nutrition Service, U.S. Department of Agriculture, 3101 Park Center Drive, Room 1014, Alexandria, Virginia 22302.

All comments submitted in response to this notice will be included in the record and will be made available to the public at www.regulations.gov. Please be advised that the substance of the comments and the identity of the individuals or entities commenting will be subject to public disclosure.

FOR FURTHER INFORMATION CONTACT: Steven Carlson, Office of Policy Support, Food and Nutrition Service, (703) 305-2017.

SUPPLEMENTARY INFORMATION: Most U.S. households have consistent, dependable access to enough food for active, healthy living. But some American households experience food insecurity at times during the year, meaning that their access to adequate food is limited by a lack of money and other resources. In 2011, 85.1 percent of U.S. households were food secure throughout the year; the remaining 14.9 percent were food insecure (see “Household Food Security in the United States in 2011” Economic Research Report No. ERR-141). Children were food insecure at times during the year in 10.0 percent of households with children. While children are usually shielded from the disrupted eating patterns and reduced food intake that characterize very low food security, in 2011 children experienced instances of very low food security in 1.0 percent of the households with children (374,000 households).

The domestic food and nutrition assistance programs of the U.S. Department of Agriculture increase food security by providing low-income households access to food, a healthful diet, and nutrition education. Reliable monitoring of food security and systematic research into the underlying causes and consequences of hunger contributes to the effective operation of these programs as well as private food assistance programs and other initiatives aimed at reducing food insecurity.

In recognition of the need to sustain and expand a solid evidence base, Section 141 of the Healthy, Hunger-Free Kids Act of 2010 (Pub. L. 111-296) amended the Richard B. Russell National School Lunch Act, adding a new Section 23, 42 U.S.C. 1769c. The provision includes $10 million for research on the causes, characteristics, and consequences of childhood hunger and food insecurity. The funding becomes available on October 1, 2012, and remains available until expended. The purpose of the childhood hunger research program, as defined in the statute, is to advance knowledge and understanding in the following areas:

1. Economic, health, social, cultural, demographic, and other factors that contribute to childhood hunger or food insecurity;

2. The geographic distribution of childhood hunger and food insecurity;

3. The extent to which existing Federal assistance programs reduce childhood hunger and food insecurity;

4. The extent to which childhood hunger and food insecurity persist due to gaps in program coverage, the inability of potential participants to access programs, or the insufficiency of program benefits or services;

5. The public health and medical costs of childhood hunger and food insecurity;

6. An estimate of the degree to which the measure of food insecurity underestimates childhood hunger and food insecurity because the exclusion of certain households, such as homeless, or other factors;

7. The effects of childhood hunger on child development, well-being, and educational attainment; and

8. Other critical outcomes as determined by the Secretary of Agriculture.

Interested parties are asked to address any or all of the research topics listed above by considering and responding to the following questions:

1. How adequate is the current state of knowledge in each topical area?

2. Do substantial knowledge gaps remain? If so, what are the most important unanswered questions?

3. Can research using existing data adequately fill critical remaining gaps, or are new data collections needed? If new data are needed, what kinds of additional data would be most useful and how could they be gathered?

4. Would additional research have a major scientific and programmatic impact and contribute substantially to an improved understanding of the causes and consequences of child hunger and food insecurity?

In addition, commenters are invited to identify other areas of research not addressed in the research topics listed that could offer important opportunities to advance the research and knowledge base. Commenters are also invited to provide an assessment of relative research priorities across topical areas.

Dated: September 5, 2012.
Robin D. Bailey, Jr.,
Acting Administrator, Food and Nutrition Service.

[FR Doc. 2012-22290 Filed 9-10-12; 8:45 am]

BILLING CODE 3410-30-P